DEPARTMENT OF THE INTERIOR

National Park Service

Chalmette Battlefield Task Force Committee meeting

AGENCY: Jean Lafitte National Historical Park and Preserve, National Park Service.

ACTION: Notice of Task Force meeting.

SUMMARY: Notice is hereby given in accordance with the Federal Advisory Committee Act, 5 U.S.C. App.1, Section 10(a)(2), that a meeting of the Chalmette Battlefield Task Force Committee will be held at 3 p.m. at the following location and date:

DATES: Wednesday, May 28, 2003.

ADDRESSES: Jean Lafitte National Historical Park and Preserve, Chalmette National Battlefield, 8606 West Saint Benard Highway, Chalmette, Louisiana 70043-4204.

FOR FURTHER INFORMATION CONTACT: Ms. Geraldine Smith, Superintendent, Jean Lafitte National Historical Park and Preserve, 419 Rue Decatur Street, New Orleans, Louisiana 70130, 504-589-3882, extension 137 or 108.

SUPPLEMENTARY INFORMATION: The purpose of the Chalmette Battlefield Task Force Committee is to advise the Secretary of the Interior on suggested improvements at the Chalmette Battlefield site within Jean Lafitte National Historical Park and Preserve. The members of the Task Force are as follows: Ms. Elizabeth McDougall, chairperson, Ms. Faith Moran, Mr. Anthony A. Fernandez, Jr., Mr. Drew Heaphy, Mr. Alvin W. Guillot, Mrs. George W. Davis, Mr. Eric Cager, Mr. Paul V. Perez, Captain Bonnie Pepper Cook, vice-chairperson, Mr. Michael L. Fraering, Colonel John F. Pugh, Jr., and Ms. Geraldine Smith.

The matters to be discussed at this meeting will include an onsite tour of the Chalmette Battlefield and Chalmette National Cemetery, history of the area, cultural landscape recommendations, and current citizens concerns and issues. This meeting will be open to the public; however, facilities and space for accommodating members of the public are limited. Any member of the public may file with the committee a written statement concerning the matters to be discussed. Written statements may also be submitted to the superintendent at the address above. Minutes of the meeting will be available at park headquarters for public inspection at 419 Decatur Street, New Orleans, Louisiana, for public inspection approximately 4 weeks after the meeting and on the park web-site at http://www.nps.gov/jela.htm.

Dated: April 9, 2003.
W. Thomas Brown,
Acting Regional Director, Southeast Region.

[FR Doc. 03-13335 Filed 5-28-03; 8:45 am]

BILLING CODE 4310-06-P